DEPARTMENT OF HOMELAND SECURITY

Coast Guard

[Docket No. USCG-2008-0968]

National Boating Safety Advisory Council

AGENCY: Coast Guard, DHS.

ACTION: Notice of Meetings.

SUMMARY: The National Boating Safety Advisory Council (NBSAC) will meet on November 1, 2, and 3, 2008, in Arlington, VA. The meetings will be open to the public.

DATE: NBSAC will meet November 1, 2008, from 8 a.m. to 11:30 a.m. and on November 3, 2008, from 8:30 a.m. to 5 p.m. The Prevention through People subcommittee will meet November 1, 2008, from 1 p.m. to 5 p.m. The Recreational Boating Safety Strategic Planning subcommittee will meet November 2, 2008, from 8 a.m. to 12 noon. The Boats and Associated Equipment subcommittee will meet on November 2, 2008, from 1:30 p.m. to 5 p.m. Please note that the meetings may conclude early if the council has completed its business.

ADDRESSES: The meetings will be held at the Holiday Inn Arlington, 4610 N Fairfax Drive, Arlington, VA 22203. Please send written material, comments, and requests to make oral presentations to Mr. Jeff Ludwig by one of the submission methods described below. All written materials, comments, and requests to make oral presentations at the meeting(s) should reach Mr. Ludwig by October 17, 2008. Requests to have a copy of your material distributed to each member of the committee prior to the meeting(s) should reach Mr. Ludwig by October 10, 2008. All materials, comments, and requests must be identified by docket number [USCG-2008-0968] and may be submitted by one of the following methods:

• Federal eRulemaking Portal: http://www.regulations.gov. Follow the instructions for submitting comments.

• E-mail: jeffrey.a.ludwig@uscg.mil. Include the docket number in the subject line of the message.

• Fax: (202) 372-1932.

• Mail: Mr. Jeff Ludwig, COMDT (CG-54221), 2100 2nd Street, SW., Washington, DC 20593.

Instructions: All submissions received must include the words “U.S. Coast Guard” and docket number [USCG-2008-0968]. All submissions received will be posted without alteration at http://www.regulations.gov, including any personal information provided.

Docket: For access to the docket to read background documents or submissions received by the NBSAC, go to http://www.regulations.gov.

FOR FURTHER INFORMATION CONTACT: Mr. Jeff Ludwig, COMDT (CG-54221), 2100 2nd Street, SW., Washington, DC 20593; (202) 372-1061; Jeffrey.a.ludwig@uscg.mil.

SUPPLEMENTARY INFORMATION: Notice of this meeting is given under the Federal Advisory Committee Act, 5 U.S.C. App. (Pub. L. 92-463). NBSAC was established by the Federal Boat Safety Act of 1971. That law requires the Secretary of Homeland Security, and the Commandant of the Coast Guard by delegation, to consult with NBSAC in prescribing Federal regulations, and on other major matters regarding boating safety. See 46 U.S.C. 4302(c) and 13110(c).

NBSAC will meet for the purpose of discussing issues related to recreational boating safety.

Tentative Agendas of Meetings

National Boating Safety Advisory Council (NBSAC)

Saturday, November 1, 2008

(1) Remarks—Mr. James P. Muldoon, NBSAC Chairman;

(2) Chief, Office of Auxiliary and Boating Safety Update on NBSAC Resolutions and Recreational Boating Safety Program report.

(3) Executive Secretary's report.

(4) Chairman's session.

(5) TSAC Liaison's report.

(6) NAVSAC Liaison's report.

(7) National Association of State Boating Law Administrators report.

(8) Prevention through People Subcommittee meeting.

Sunday, November 2, 2008

(9) Recreational Boating Safety Strategic Planning Subcommittee meeting.

(10) Boats and Associated Equipment Subcommittee meeting.

Monday, November 3, 2008

(11) Prevention through People Subcommittee report.

(12) Boats and Associated Equipment Subcommittee report.

(13) Recreational Boating Safety Strategic Planning Subcommittee report.

A more detailed agenda can be found at: http://www.uscgboating.org/nbsac/nbsac.htm, after October 24, 2008.

NBSAC Subcommittees

Prevention Through People Subcommittee: Discuss current regulatory projects, grants, contracts, and new issues affecting the prevention of boating accidents through outreach and education of boaters.

Boats and Associated Equipment Subcommittee: Discuss current regulatory projects, grants, contracts, and new issues affecting boats and associated equipment.

Recreational Boating Safety Strategic Planning Subcommittee: Discuss current status of the strategic planning process and any new issues or factors that could impact, or contribute to, the development of the strategic plan for the recreational boating safety program.

Meeting Procedure

This meeting is open to the public. At the discretion of the Chair, members of the public may make oral presentations during the meeting. If you would like to make an oral presentation at the meeting, please notify Mr. Jeff Ludwig as described in the ADDRESSES section above. If you would like a copy of your material distributed to each member of the Council in advance of the meeting, please submit thirty (30) copies to Mr. Jeff Ludwig by October 10, 2008.

Please note that the meeting may conclude early if all business is finished.

Information on Services for Individuals With Disabilities

For information on facilities or services for individuals with disabilities or to request special assistance at the meeting, contact Mr. Jeff Ludwig as described in the ADDRESSES section above as soon as possible.

Dated: September 17, 2008.
J.A. Watson,
Rear Admiral, U.S. Coast Guard, Director of Prevention Policy.

[FR Doc. E8-23034 Filed 9-30-08; 8:45 am]

BILLING CODE 4910-15-P